SMALL BUSINESS ADMINISTRATION

[Declaration of Disaster #3557]

State of Washington

As a result of the President's major disaster declaration on November 7, 2003, I find that Chelan, Clallam, Grays Harbor, Island, Jefferson, King, Kitsap, Mason, Okanogan, Pierce, San Juan, Skagit, Snohomish, Thurston and Whatcom Counties in the State of Washington constitute a disaster area due to damages caused by severe storms and flooding occurring on October 15 through October 23, 2003. Applications for loans for physical damage as a result of this disaster may be filed until the close of business on January 6, 2004 and for economic injury until the close of business on August 9, 2004 at the address listed below or other locally announced locations:

Small Business Administration, Disaster Area 4 Office, P.O. Box 13795, Sacramento, CA 95853-4795.

In addition, applications for economic injury loans from small businesses located in the following contiguous counties may be filed until the specified date at the above location: Douglas, Ferry, Grant, Kittitas, Lewis, Lincoln, Pacific and Yakima in the State of Washington.

The interest rates are:

| Percent
For Physical Damage:
Homeowners with credit available elsewhere | 5.125
Homeowners without credit available elsewhere | 2.562
Businesses with credit available elsewhere | 6.199
Businesses and non-profit organizations without credit available elsewhere | 3.100
Others (Including non-profit organizations) with credit available elsewhere | 5.500
For Economic Injury:
Businesses and small agricultural cooperatives without credit available elsewhere | 3.100

The number assigned to this disaster for physical damage is 355706 and for economic injury the number is 9X8400.

(Catalog of Federal Domestic Assistance Program Nos. 59002 and 59008)
Dated: November 7, 2003.
Cheri L. Cannon,
Acting Associate Administrator for Disaster Assistance.

[FR Doc. 03-28714 Filed 11-17-03; 8:45 am]

BILLING CODE 8025-01-P